DEPARTMENT OF AGRICULTURE

Food Safety and Inspection Service

[Docket No. 03-040N]

Codex Alimentarius: Meeting of the Codex Committee on Meat Hygiene

AGENCY: Food Safety and Inspection Service, USDA.

ACTION: Notice of public meeting and request for comments.

SUMMARY: The Office of the Under Secretary for Food Safety, U. S. Department of Agriculture (USDA), is sponsoring a public meeting on January 15, 2004, to provide information and receive public comments on agenda items that will be discussed at the Tenth Session of the Codex Committee on Meat Hygiene, which will be held in Auckland, New Zealand, on February 16-20, 2004. The Under Secretary recognizes the importance of providing interested parties with information about the Codex Committee on Meat Hygiene of the Codex Alimentarius Commission and to address items on the Agenda for the 10th Session of the Committee.

DATES: The public meeting is scheduled for Thursday, January 15, 2004, from 1 p.m.-4 p.m.

ADDRESSES: The public meeting will be held at the Department of Agriculture's South Building in Room 0161, 1400 Independence Avenue, SW., Washington, DC. To receive copies of the documents referenced in this notice, contact the Food Safety and Inspection Service (FSIS) Docket Clerk, USDA, FSIS, Room 102, Cotton Annex, 300 12th Street, SW., Washington, DC 20250-3700. The documents will also be accessible via the World Wide Web at the following address: http://www.codexalimentarius.net/ccmh10/mh04_01e.htm. If you have comments, please send an original and two copies to the FSIS Docket Clerk and reference Docket #03-040N. All comments submitted will be available for public inspection in the Docket Clerk's Office between 8:30 a.m. and 4:30 p.m., Monday through Friday.

FOR FURTHER INFORMATION CONTACT: Edith Kennard, Staff Officer, U.S. Codex Office, FSIS, Room 4861, South Agriculture Building, 1400 Independence Avenue, SW., Washington, DC 20250, Telephone: (202) 720-5261, Fax: (202) 720-3157.

SUPPLEMENTARY INFORMATION:

Background

The Codex Alimentarius Commission was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, the Food and Drug Administration, and the Environmental Protection Agency manage and carry out U.S. Codex activities.

The Codex Executive Committee (CEC), at its 47th Session in 2000, asked that the Codex Committee on Meat Hygiene reconvene to redraft the existing codes on meat hygiene so that they reflect contemporary developments. The CEC also asked that the scope of the existing codes be broadened so as to include poultry meat hygiene. These recommendations were confirmed by the 24th Session of the Codex Alimentarius Commission in July 2001.

Issues To Be Discussed at the Public Meeting

Provisional agenda items to be discussed during the public meeting:

1. Draft Code of Hygienic Practice for Meat.

2. Proposed Draft Annex on Risk-Based Post-Mortem Examination Procedures for Meat.

3. Proposed Draft Annex on Microbiological Verification of Process Control of Meat Hygiene.

4. Discussion Paper on Hygiene Provisions for Processed Meat.

Public Meeting

At the January 15th public meeting, the agenda items, including U.S. positions, will be described and discussed. Attendees will have the opportunity to pose questions and offer comments. Comments may be sent to the FSIS Docket Room (see ADDRESSES). Written comments should state that they relate to activities of the 10th Session of the Codex Committee on Meat Hygiene (Docket #03-040N).

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade and farm groups, consumer interest groups, allied health professionals, scientific professionals, and other individuals that have requested to be included. Through the Listserv and Web page, FSIS is able to provide information to a much broader, more diverse audience.

For more information about Listserv, contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done in Washington, DC on December 17, 2003.
F. Edward Scarbrough,
U.S. Manager for Codex Alimentarius.

[FR Doc. 03-31541 Filed 12-22-03; 8:45 am]

BILLING CODE 3410-DM-P